FEDERAL COMMUNICATIONS COMMISSION

47 CFR Part 73

[DA 05-1719; MB Docket No. 05-141, RM-11219; MB Docket No. 05-76, RM-11167; MB Docket No. 05-77, RM-11168; MB Docket No. 05-87, RM-11166; and MB Docket No. 05-78, RM-11169]

Radio Broadcasting Services; Covington, OK; Poultney, VT; Silver Springs, NV; Spur, TX; Strong, AR

AGENCY: Federal Communications Commission.

ACTION: Final rule.

SUMMARY: The Audio Division, at the request of Charles Crawford, allots Channel 296C3 at Strong, Arkansas, as the community's first local FM service. Channel 296C3 can be allotted to Strong, Arkansas, in compliance with the Commission's minimum distance separation requirements with a site restriction of 14.3 km (8.9 miles) north of Strong. The coordinates for Channel 296C3 at Strong, Arkansas, are 33-14-00 North Latitude and 92-18-00 West Longitude. See SUPPLEMENTARY INFORMATION infra.

DATES: Effective August 8, 2005.

FOR FURTHER INFORMATION CONTACT: Deborah Dupont, Media Bureau, (202) 418-2180.

SUPPLEMENTARY INFORMATION: This is a synopsis of the Commission's Report and Order, MB Docket Nos. 05-141, 05-76, 05-77, 05-87, and 05-78, adopted June 22, 2005, and released June 24, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

The Audio Division further, at the request of Dana J. Puopolo, allots Channel 273C at Silver Springs, Nevada, as the community's first local FM service. Channel 273C can be allotted to Silver Springs, Nevada, in compliance with the Commission's minimum distance separation requirements with a site restriction of 47.7 km (29.7 miles) east of Silver Spring. The coordinates for Channel 273C at Silver Springs, Nevada, are 39-30-00 North Latitude and 118-40-48 West Longitude.

The Audio Division, at the request of Charles Crawford, allots Channel 290A at Covington, Oklahoma, as the community's first local FM service. Channel 290A can be allotted to Covington, Oklahoma, in compliance with the Commission's minimum distance separation requirements with a site restriction of 5.7 km (3.5 miles) east of Covington. The coordinates for Channel 239B at Covington, Oklahoma, are 36-18-26 North Latitude and 97-31-31 West Longitude.

The Audio Division, at the request of Jeraldine Anderson, allots Channel 260C3 at Spur, Texas, as the community's second local FM service. Channel 260C3 can be allotted to Spur, Texas, in compliance with the Commission's minimum distance separation requirements with a site restriction of 13.4 km (8.4 miles) west of Spur. The coordinates for Channel 260C3 at Spur, Texas, are 33-28-30 North Latitude and 101-00-00 West Longitude.

The Audio Division, at the request of Dana J. Puopolo, allots Channel 223A at Poultney, Vermont, as the community's first local FM service. Channel 223A can be allotted to Poultney, Vermont, in compliance with the Commission's minimum distance separation requirements at center city reference coordinates, without site restriction. The coordinates for Channel 223A at Poultney, Vermont, are 43-31-06 North Latitude and 73-14-06 West Longitude. Concurrence in a specially-negotiated, short-spaced allotment is required because the proposed allotment is located within 320 kilometers (199 miles) of the U.S.-Canadian border. Although Canadian concurrence has been requested, notification has not been received. If a construction permit for Channel 223A at Poultney, Vermont, is granted prior to receipt of formal concurrence by the Canadian government, the authorization will include the following condition: “Operation with the facilities specified herein for Poultney, Vermont, is subject to the modification, suspension, or termination without right to hearing, if found by the Commission to be necessary in order to conform to the Canada-United States FM Broadcast Agreement, or if specifically objected to by Industry Canada.”

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Arkansas, is amended by adding Strong, Channel 296C3.

3. Section 73.202(b), the Table of FM Allotments under Nevada, is amended by adding Silver Springs, Channel 273C.

4. Section 73.202(b), the Table of FM Allotments under Oklahoma, is amended by adding Covington, Channel 290A.

5. Section 73.202(b), the Table of FM Allotments under Texas, is amended by adding Channel 260C3 at Spur.

6. Section 73.202(b), the Table of FM Allotments under Vermont, is amended by adding Poultney, Channel 223A.

Federal Communications Commission.
John A. Karousos,
Assistant Chief, Audio Division, Media Bureau.

[FR Doc. 05-13571 Filed 7-12-05; 8:45 am]

BILLING CODE 6712-01-P